GENERAL SERVICES ADMINISTRATION

[Notice: PBS-2011-02; Docket No. 2011-0006; Sequence 17]

Record of Decision Addendum for the Department of Homeland Security Headquarters Consolidation at St. Elizabeths in Southeast, Washington, DC

AGENCY: National Capital Region, U.S. General Services Administration (GSA).

ACTION: Record of Decision Addendum.

SUMMARY: Pursuant to the requirements of the National Environmental Policy Act of 1969 (NEPA), 42 U.S.C. 4321-4347, the Council on Environmental Quality Regulations (40 CFR parts 1500-1508), GSA Order PBS P 1095.1F (Environmental considerations in decision-making, dated October 19, 1999), and the GSA Public Buildings Service NEPA Desk Guide, dated October 1999, on September 28, 2011, GSA issued a Record of Decision Addendum to the DHS Headquarters Consolidation at St. Elizabeths Final Environmental Impact Statement (EIS) (GSA, November 2008), to implement the revised West Access Road from Firth Sterling Avenue to Gate 4 of the St. Elizabeths West Campus. The complete Record of Decision Addendum can be viewed on the project Web site http://www.stelizabethsdevelopment.com.

FOR FURTHER INFORMATION CONTACT: Denise Decker, NEPA Lead, General Services Administration, National Capital Region, at (202) 538-5643.

Decision

It is the decision of the Regional Administrator of GSA, NCR, and in support of DHS, to approve the Addendum to the 2008 ROD and thereby implement the Preferred Alternative of the West Campus Access Road from Gate 4 to its intersection with Firth Sterling Avenue. This action is necessary as part of the redevelopment of the St. Elizabeths Campus associated with consolidating DHS headquarters. The Preferred Alternative includes intersection improvements at Firth Sterling Avenue resulting in a left-turn lane onto the West Campus Access Road, and construction of 10 bus bays along the West Campus Access Road.

The selection of the Preferred Alternative for the West Campus Access Road from Gate 4 to its intersection with Firth Sterling Avenue is conditioned on the following:

• Approval of the design for the West Campus Access Road by NCPC.

• Successful execution of the MOA regarding historic preservation signed by GSA, DC HPO, ACHP, FHWA, NCPC, and DHS in September 2011.

• Subsequent final determinations by DDOT on the Firth Sterling Avenue intersection with the West Campus Access Road. The Preferred Alternative could be implemented immediately after approval by DDOT.

Development of the West Campus Access Road will be guided by the Overall Development Phasing schedule included in the Master Plan Amendment and the PA. This decision is based on information and analyses contained in the following:

• 2008 Final Master Plan EIS and ROD.

• 2010 Draft Master Plan Amendment EIS.

• 2010 St. Elizabeths Transportation Technical Report.

• Comments from Federal and state agencies, stakeholder organizations, members of the public, elected officials, and other information in the project administrative record.

The proposed transportation improvements under the Preferred Alternative in this ROD Addendum, namely the West Campus Access Road from Gate 4 to Firth Sterling Avenue, do not conflict with the conclusions presented in the 2008 Master Plan EIS and ROD.

Issued September 28, 2011 by Julia E. Hudson, Regional Administrator, General Services Administration, National Capital Region.

Dated: October 18, 2011.
Dawud Abdur-Rahman,
Director, Planning and Management, Office of Planning and Design Quality, General Services Administration, Public Building Services, National Capital Region.

[FR Doc. 2011-27349 Filed 10-20-11; 8:45 am]

BILLING CODE 6820-23-P